DEPARTMENT OF THE INTERIOR

Office of Natural Resources Revenue

[Docket No. ONRR-2011-0012; DS63644000 DR2000000.CH7000 189D0102R2]

Major Portion Prices and Due Date for Additional Royalty Payments on Indian Gas Production in Designated Areas Not Associated With an Index Zone

AGENCY: Office of Natural Resources Revenue, Interior.

ACTION: Notice.

SUMMARY: Final regulations for valuing gas produced from Indian leases, published August 10, 1999, require the Office of Natural Resources Revenue (ONRR) to determine major portion prices and notify industry by publishing the prices in the Federal Register. The regulations also require ONRR to publish a due date for industry to pay additional royalties based on the major portion prices. Consistent with these requirements, this notice provides major portion prices for the 12 months of calendar year 2016.

DATES: The due date to pay additional royalties based on the major portion prices is September 28, 2018.

FOR FURTHER INFORMATION CONTACT:

Calculation of Prices Information: Robert Sudar, Manager, Market & Spatial Analytics, ONRR, at (303) 231-3511, or email to Robert.Sudar@onrr.gov; mailing address—Office of Natural Resources Revenue, P.O. Box 25165, MS 64310B, Denver, Colorado 80225-0165.

Reporting Information: Lee-Ann Martin, Program Manager, Reference & Reporting Management, ONRR, at (303) 231-3313, or email to Leeann.Martin@onrr.gov; mailing address—Office of Natural Resources Revenue, P.O. Box 25165, MS 63300B, Denver, Colorado 80225-0165.

SUPPLEMENTARY INFORMATION: On August 10, 1999, ONRR's predecessor, the Minerals Management Service, published a final rule titled “Amendments to Gas Valuation Regulations for Indian Leases” effective January 1, 2000 (64 FR 43506). The gas valuation regulations apply to all gas production from Indian (Tribal or allotted) oil and gas leases, except leases on the Osage Indian Reservation.

The regulations require ONRR to publish major portion prices for each designated area not associated with an index zone for each production month beginning January 2000, as well as the due date for additional royalty payments. See 30 CFR 1206.174(a)(4)(ii). If you owe additional royalties based on a published major portion price, you must submit to ONRR, by the due date, an amended form ONRR-2014, Report of Sales and Royalty Remittance. If you do not pay the additional royalties by the due date, ONRR will bill you late payment interest under 30 CFR 1218.54. The interest will accrue from the due date until ONRR receives your payment and an amended form ONRR-2014. The table below lists the major portion prices for all designated areas not associated with an index zone. The due date is the end of the month, following 60 days after the publication date of this notice in the Federal Register.

Gas Major Portion Prices ($/MMBtu) for Designated Areas not Associated With an Index Zone
ONRR-designated areas | Jan 2016 | Feb 2016 | Mar 2016 | Apr 2016
Blackfeet Reservation | 1.28 | 1.25 | 1.06 | 1.01
Fort Belknap Reservation | 4.15 | 4.24 | 3.94 | 1.10
Fort Berthold Reservation | 1.90 | 1.84 | 1.27 | 1.33
Fort Peck Reservation | 1.34 | 1.49 | 1.56 | 1.75
Navajo Allotted Leases in the Navajo Reservation | 2.16 | 2.03 | 1.52 | 1.59
Turtle Mountain Reservation | 1.93 | 1.87 | 1.25 | 1.32
ONRR-designated areas | May 2016 | Jun 2016 | Jul 2016 | Aug 2016
Blackfeet Reservation | 1.02 | 1.13 | 1.48 | 1.01
Fort Belknap Reservation | 1.26 | 1.38 | 1.56 | 1.55
Fort Berthold Reservation | 1.48 | 1.51 | 2.25 | 2.16
Fort Peck Reservation | 1.85 | 2.38 | 2.46 | 2.44
Navajo Allotted Leases in the Navajo Reservation | 1.77 | 1.90 | 2.56 | 2.54
Turtle Mountain Reservation | 1.45 | 1.49 | 2.29 | 2.20
ONRR-designated areas | Sep 2016 | Oct 2016 | Nov 2016 | Dec 2016
Blackfeet Reservation | 1.66 | 1.96 | 1.69 | 2.16
Fort Belknap Reservation | 1.64 | 1.79 | 1.68 | 1.91
Fort Berthold Reservation | 2.32 | 2.53 | 2.31 | 2.78
Fort Peck Reservation | 2.34 | 2.88 | 2.68 | 3.08
Navajo Allotted Leases in the Navajo Reservation | 2.62 | 2.70 | 2.42 | 3.20
Turtle Mountain Reservation | 2.36 | 2.48 | 2.31 | 2.65

For information on how to report additional royalties due to major portion prices, please refer to our Dear Payor letter dated December 1, 1999, on the ONRR website at http://www.onrr.gov/ReportPay/PDFDocs/991201.pdf.

Authorities: : Mineral Leasing Act of 1920, 30 U.S.C. 181 et seq.; Indian Mineral Development Act of 1920, 30 U.S.C. 2103 et seq.; Federal Oil and Gas Royalty Management Act of 1982, 30 U.S.C. 1701 et seq.

Gregory J. Gould,
Director for Office of Natural Resources Revenue.

[FR Doc. 2018-15111 Filed 7-13-18; 8:45 am]

BILLING CODE 4335-30-P